DEPARTMENT OF DEFENSE

Department of the Navy

Notice of Stakeholder Meeting: Industry Roundtable—DON/USDA/DOE/DOT-FAA Advanced Drop-In Biofuels Initiative

AGENCY: Department of the Navy, DoD.

ACTION: Notice of public meeting.

SUMMARY: The United States Department of Navy (DoN) in conjunction with the U.S. Department of Agriculture (USDA), U.S. Department of Energy (DOE), and the U.S. Department of Transportation Federal Aviation Administration (DOT FAA), is hosting an industry roundtable with the full complement of participants in the biofuels supply chain. The purpose of the roundtable meeting is for the federal government to present further details on the partnership between the DoN, DoE, and USDA to construct or retrofit multiple commercial scale advanced biorefineries. Additional general information will be provided regarding the Defense Production Act (DPA) Title III, the Commodity Credit Corporation, and DoN's requirements for fuels. Federal government representatives will also be able to hear from stakeholders as to their abilities to meet such requirements and/or barriers to such success.

This session is not intended to offer government insight, nor answer direct questions and receive comments on the DPA Title III Advanced Drop-In Biofuels Production Project. Questions related to the Special Notices or the pending Broad Agency Announcement (BAA) cannot be answered at this roundtable. All comments concerning the Special Notices on the pending BAA should be sent to TitleIIIBiofuels@wpafb.af.mil.

DATES: The meeting will be held on Friday, May 18, 2012, from 8 a.m. to 5:30 p.m.

ADDRESSES: The meeting will be held at USDA Jefferson Auditorium, USDA South Building, 14th and Independence, Washington, DC 20250.

FOR FURTHER INFORMATION CONTACT: reg.adibir@Gmail.com.

SUPPLEMENTARY INFORMATION: The purpose of the roundtable meeting is for the federal government to present further details on the partnership between the DoN, DoE, and USDA to construct or retrofit multiple commercial scale advanced biorefineries. Additional general information will be provided regarding the DPA Title III, the Commodity Credit Corporation, and DoN's requirements for fuels.

There is no cost; however, all attendees must register before May 11, 2012, for this Industry Roundtable via email reg.adibir@Gmail.com with all of the following required information:

Name and Title:

Corporate Affiliation:

Address:

Phone number:

Email:

Web site:

Position on the Biofuels Production Value Chain: (feedstock provider, bio-refiner, finished products distributor, integrated effort, subject matter expert, financier, etc.)

Information and details concerning this Industry Roundtable (including maps and draft agenda) will be forwarded to those registered later.

Dated: April 13, 2012.
J.M. Beal,
Lieutenant Commander, Judge Advocate General's Corps, U.S. Navy, Federal Register Liaison Officer.

[FR Doc. 2012-9571 Filed 4-19-12; 8:45 am]

BILLING CODE 3810-FF-P